INTERNATIONAL TRADE COMMISSION

[USITC SE-18-051]

Government in the Sunshine Act Meeting Notice

AGENCY HOLDING THE MEETING: United States International Trade Commission.

TIME AND DATE: November 2, 2018 at 11:00 a.m.

PLACE: Room 101, 500 E Street SW, Washington, DC 20436, Telephone: (202) 205-2000.

STATUS: Open to the public.

MATTER TO BE CONSIDERED:

1. Agendas for future meetings: None.

2. Minutes.

3. Ratification List.

4. Vote on Inv. Nos. 701-TA-610 and 731-TA-1425-1427 (Preliminary) (Refillable Stainless Steel Kegs from China, Germany, and Mexico). The Commission is currently scheduled to complete and file its determinations on November 5, 2018; views of the Commission are currently scheduled to be completed and filed on November 13, 2018.

5. Vote on Inv. Nos. 701-TA-611 and 731-TA-1428 (Preliminary) (Aluminum Wire and Cable from China). The Commission is currently scheduled to complete and file its determinations on November 5, 2018; views of the Commission are currently scheduled to be completed and filed on November 13, 2018.

6. Vote on Inv. Nos. 731-TA-672 and 673 (Fourth Review) (Silicomanganese from China and Ukraine). The Commission is currently scheduled to complete and filed its determinations and views of the Commission by November 16, 2018.

7. Outstanding action jackets: None.

In accordance with Commission policy, subject matter listed above, not disposed of at the scheduled meeting, may be carried over to the agenda of the following meeting.

By order of the Commission.
Issued: October 24, 2018.
William Bishop,
Supervisory Hearings and Information Officer.

[FR Doc. 2018-23629 Filed 10-25-18; 11:15 am]

BILLING CODE 7020-02-P